SMALL BUSINESS ADMINISTRATION

SBA Investment Capital Advisory Committee Meeting

AGENCY: U.S. Small Business Administration.

ACTION: Notice of Federal advisory committee meeting: SBA Investment Capital Advisory Committee.

SUMMARY: The U.S. Small Business Administration (SBA) will hold an Investment Capital Advisory Committee (ICAC) meeting on Wednesday, November 13, 2024. Members will convene as an independent source of advice and recommendation to SBA on matters relating to institutional investment market trends, innovation, and policy impacting small businesses and their ability to access patient capital. The meeting will be held virtually for members and the public.

DATES: Wednesday, November 13, 2024, from 10:30 a.m. to 1:30 p.m. eastern time (ET).

ADDRESSES: The Investment Capital Advisory Committee Meeting will be held virtually on Zoom for Government. Register at https://bit.ly/ICAC-Nov2024

FOR FURTHER INFORMATION CONTACT: Brittany Sickler, Designated Federal Officer, Office of Investment and Innovation, SBA, 409 3rd Street SW, Washington, DC 20416, (202) 369-8862 or ICAC@sba.gov. The meeting will be broadcast to the public, and anyone wishing to submit questions to the SBA Investment Capital Advisory Committee can do so by submitting them via email to ICAC@sba.gov. Individuals who require an alternative aid or service to communicate effectively with SBA should email the point of contact listed above and provide a brief description of their preferred method of communication.

SUPPLEMENTARY INFORMATION: Pursuant to section 10(a)(2) of the Federal Advisory Committee Act (5 U.S.C. appendix 2), SBA announces a meeting of the SBA Investment Capital Advisory Committee (the “ICAC”). The ICAC is tasked with providing advice, insights, and recommendations to SBA on matters broadly related to facilitating greater access and availability of patient investment capital for small business; promoting greater awareness of SBA Investment and Innovation division programs and services; cultivating greater public-private engagement, cooperation, and collaboration; developing and/or evolving SBA programs and services to address long-term capital access gaps faced by small businesses and the investment managers that seek to support them. The final agenda for the meeting will be posted on the registration page at https://bit.ly/ICAC-Nov2024 or the ICAC website at https://www.sba.gov/icac prior to the meeting. Copies of the meeting minutes will be available by request within 90 days of the meeting date.

Public Comment

Any member of the public may submit pertinent questions and comments concerning ICAC affairs at any time before or after the meeting and participate in the livestreamed meeting of the SBA Investment Capital Advisory Committee on Wednesday, November 13, 2024. Comments may be submitted to Brittany Sickler at ICAC@sba.gov. Those wishing to participate live are encouraged to register by or before Monday, November 11, 2024, using the registration link provided above. Advance registration is strongly encouraged.

Dated: October 29, 2024.
Andrienne Johnson,
Committee Management Officer.

[FR Doc. 2024-25489 Filed 10-31-24; 8:45 am]

BILLING CODE 8026-09-P